OFFICE OF THE UNITED STATES TRADE REPRESENTATIVE

[Docket No. WTO/DS-285]

WTO Dispute Settlement Proceeding Regarding Federal, State, and Territorial Laws Affecting the Cross-Border Provision of Gambling and Betting Services From Antigua and Barbuda

AGENCY: Office of the United States Trade Representative.

ACTION: Notice; request for comments.

SUMMARY: The Office of the United States Trade Representative (“USTR”) is providing notice that on June 13, 2003, the government of Antigua and Barbuda requested the establishment of a WTO dispute settlement panel pursuant to Article 6 of the World Trade Organization (“WTO”) Dispute Settlement Understanding (“DSU”) to consider its allegations that measures applied by the U.S. federal government and all 50 states, the District of Columbia, Puerto Rico, Guam, and the U.S. Virgin Islands affecting the cross-border supply of gambling and betting services are inconsistent with U.S. obligations under Articles VI, VIII, XI, XVI, and XVII of the WTO General Agreement on Trade in Services (“GATS”) and its schedule of specific commitments. USTR invites written comments from the public concerning the issues raised in this dispute.

DATES: Although USTR will accept any comments received during the course of the dispute settlement proceedings, comments should be submitted on or before August 29, 2003, to be assured of timely consideration by USTR.

ADDRESSES: Comments should be submitted (i) Electronically, to fr0087@ustr.gov, with “Gambling and Betting Dispute (DS285)” in the subject line, or (ii) by fax, to Sandy McKinzy at (202) 395-3640, with a confirmation copy sent electronically to the electronic mail address above, in accordance with the requirements for submission set out below.

FOR FURTHER INFORMATION CONTACT: Stanford K. McCoy, Assistant General Counsel, Office of the United States Trade Representative, 600 17th Street, NW., Washington, DC, (202) 395-3581.

SUPPLEMENTARY INFORMATION: Pursuant to Section 127(b) of the Uruguay Round Agreements Act (“URAA”) (19 U.S.C. 3537(b)(1)) USTR is providing notice that, on June 12, 2003, the United States received a request from the government of Antigua and Barbuda for the establishment of a WTO dispute settlement panel to examine U.S. federal and state measures affecting cross-border gambling and betting services. Consultations with Antigua and Barbuda failed to resolve the matter. The panel was established pursuant to the DSU on July 21, 2003. It will hold its meetings in Geneva, Switzerland, and is expected to issue a report on its findings and recommendations within six to nine months after the date of establishment.

Major Issues Raised and Legal Basis of the Panel Request

The government of Antigua and Barbuda alleges that the Federal, state and territorial legislation and other legal materials listed below violate U.S. specific commitments under the GATS, as well as Articles VI, VIII, XI, XVI, and XVII of the GATS, to the extent that these laws and other materials prevent or can prevent operators from Antigua and Barbuda from lawfully offering gambling and betting services in the United States. In support of its claims, the government of Antigua and Barbuda alleges, inter alia, that U.S. authorities (1) Allow operators of U.S. origin to offer gambling and betting services in the United States but do not allow foreign operators to obtain authorizations to provide such services from abroad; and (2) restrict international transfers and payments relating to gambling and betting services offered from outside the United States.

A. Federal Legislation: 15 U.S.C. 3001 to 3007; 18 U.S.C. 2; 18 U.S.C. 1081, 1084; 18 U.S.C. 1301 to 1307; 18 U.S.C. 1952; 18 U.S.C. 1953; 18 U.S.C. 1955; 28 U.S.C. 3701 to 3704; 39 U.S.C. 3005.

B. State, District of Columbia, and Territorial Legislation and Constitutional Provisions: Ala. Code 13A-12-20 to 13A-12-31 (1977); Alaska Stat. 05.15.180 (1997); Alaska Stat. 11.66.200 to 11.66.280 (1978); Ariz. Rev. Stat. Ann. 13-3301 to 13-3312 (2001); Ark. Stat. Ann. 5-66-101 to 5-66-119 (1987); Cal. Penal Code 319-337z (West Supp. 2003); Cal. Bus. & Prof. Code 19800-19807 (West. Supp. 2003); Colo. Const. art. XVIII, 2; Colo. Rev. Stat. 18-10-101 to 18-10-108 (1999); Colo. Rev. Stat. 12-47.1-101 to 12-47.1-106 (1996); Conn. Gen. Stat. 53-278a to 53-278g (2001); Del Const. art. 2, 17; Del. Code Ann. tit. 11, 1401-32, 1470-73 (2002); D.C. Code Ann. 22-1701 to 22-1712 (2001); Fla. Stat. 849.01 to 849.46 (2000); Ga. Const. art. 1, 2; Ga. Code Ann. 16-12-20 to 16-12-62 (2003); Haw. Rev. Stat. Ann. 712-1220 to 712-1231 (Michie 1973); Idaho Const. art. III, 20; Idaho Code 18-3801 to 18-3810 (1992); III. Rev. Stat. ch. 720, 5/28-1 to 5/28-9 (1993); Ind. Code 35-45-5-1 to 35-45-5-8 (1998); Iowa Code 725.5 to 725.16 (1993); Kan. Crim. Code Ann. 21-4303 to 21-4308 (1995); Ky. Rev. Stat. Ann. 528.010 to 528.120 (Baldwin's 1974); La Const. art. XII, 6; La. Rev. Stat. Ann. 14:90.-.4 (West 1986); Me. Rev. Stat. Ann., tit. 17, 330-347 (1983); Me. Rev. Stat. Ann., tit. 17, 2305-2306 (1983); Md. Code Ann., Crim. Law, 12-101 to 12-307 (2002); Mass. Gen. Laws Ann. ch. 271, 1-50 (West 2000); Mich. Comp. Laws Ann. 750.301-750.315a (West 1990); Minn. Stat. Ann. 609.75-609.763 (Supp. 2003); Miss. Code Ann. 97-33-1 to 97-33-203 (1999); Mo. Ann. Stat. 572.010-572.125 (West 1995); Mont. Const. art. III, 9; Mont. Code Ann. 23-5-101 to 23-5-810 (1993); Neb. Rev. Stat 28-1101 to 28-1117 (1995); Nev. Rev. Stat. 202.450 (1999); Nev. Rev. Stat. 463.160 (2001); N. H. Rev. Stat. Ann. 647:2 (1999); N.J. Const. art. IV, 7; N.J. Stat. Ann. 2A:40-1 to 2A:40-9 (2000); N.J. Stat. Ann. 2C:37-9 to 2C:37-9 (1995); N.J. Stat. Ann. 5:5-63 (1996); N.J. Stat. Ann. 5:12-1 to 5:12-210 (1996); N.M. Stat. Ann. 30-19-1 to 30-19-15 (1978); N.Y. Const. art. I, 9; N.Y. Executive Law 430-439a (McKinney 1996); N.Y. Penal Law 225.00-225.40 (McKinney 1999); N.Y. General Obligation Law 5-401 to 5-423 (McKinney 2001); N.C. Gen. Stat. 14-289 to 14-309.4 (1994); N.D. Const. art. 11, 25; N.D. Cent. Code 12.1-28-01 to 12.1-28-02 (1987); Ohio Const. art. XV, 6; Ohio Rev. Code Ann. 2915.01-2915.06 (1996); Okla. Stat. Ann. tit. 3A, 205.6 (West 1993); Okla. Stat. Ann. tit. 21, 941.993 (West 2002); Or. Rev. Stat. 167.108-167.170 (2001); Pa. Stat. Ann. tit. 18, 911 (Purdon 1998); Pa. Stat. Ann. tit. 18, 5513 (Purdon 2000); Pa. Stat. Ann. tit. 66, 2902 (Purdon 2000); R.I. Const. art. Vi, 22; R.I. Gen. Laws 11-19-1 to 11-19-45 (1993); R.I. Gen. Laws 11-51-1 to 11-51-2 (1979); S.C. Code Ann. 16-19-10 to 16-19-160 (Law Co-op. 1996); S.D. Codified Laws 22-25-1 to 22-25-51 (Michie 1976); S.D. Codified Laws 22-25A-1 to 22-25A-15 (Michie 2000); Tenn. Const. art. XI, V; Tenn. Code Ann. 39-17-501 to 39-17-509 (1989); Tex. Penal Code Ann. 47.01 to 47.10 (West 2003); Utah Code Ann. 76-10-1101 to 76-10-1109 (1998); Vt. Stat. Ann. tit. 13, 2133-2156 (1957); Va. Code Ann. 18.2-325 to 18.2-340 (Michie 1992); Wash. Rev. Code Ann. 4.24.070 (West 1988); Wash. Rev. Code Ann. 9.46.010 to 9.46.903 (West 1998); W. Va. Code 61-10-1 to 61-10-5 (1970); Wis. Const. art. IV, 24; Wis. Stat. Ann. 945.01-945.13 (West 2001); Wyo. Stat. 6-7-101 to 6-7-104 (1996); 9 Guam Code Ann. 64.10 to 64.22A (2003); P.R. Laws Ann. tit. 33, 1241 to 1259 (1949); V.I. Code Ann. tit. 14, 1224-1226 (1985); V.I. Code Ann. tit. 32, 602-646 (2001).

C. Other Materials: United States v. Cohen, 260 F.3d 68 (2nd Cir. 2001), cert. denied, 122 S. Ct. 2587 (2002); Florida Attorney General, Press Release: Western Union Cuts Off Sports Betting Accounts (December 23, 1997); Kansas; Op. Att'y Gen. No. 96-31 (March 25, 1996); Kansas Attorney General, Internet Gambling Warning (visited March 13, 2003); http://www.accesskansas.org/ksag/contents/consumer/internetwarning.htm; Michigan Gaming Control Board, Frequently Asked Questions: Is it Legal to Gamble Over the Internet in Michigan http://www.michigan.gov/mgcb/0,1607,7-120-7863-19182—F,00.html; Minnesota Attorney General, Statement of Minnesota Attorney General on Internet Jurisdiction (visited March 13, 2003) http://www.jmls.edu/cyber/docs/minn-ag.html; Vacco ex rel. People v. World Interactive Gaming Corp., 714 N.Y.S.2d 844, 854 (N.Y. Sup. Ct. 1999); New York Attorney General, Press Release: Ten Banks End Online Gambling With Credit Cards + Spitzer Hails Establishment of New Banking Industry Standard (11 February 2003); New York Attorney General, Press Release: Agreement Reached with PayPal to Bar New Yorkers from Online Gambling + Campaign Against Illegal Gambling Web Site in New York Continues (21 August 2002); Attorney General of the State of the New York, Internet Bureau, In the matter of PayPal, Inc., Assurance of Discontinuance (16 August 2002); New York Attorney General, Press Release: Financial Giant Joins Fight Against Online Gambling + Leading Credit Card Issuer Agrees to Block Key Internet Transactions (14 June 2002); Attorney General of the State of New York, Internet Bureau, In the matter of Citibank (South Dakota), N.A., Assurance of Discontinuance (21 June 2002).

Public Comment: Requirements for Submissions

Interested persons are invited to submit written comments concerning the issues raised in this dispute. Persons submitting comments may either send one copy by fax to Sandy McKinzy at (202) 395-3640, or transmit a copy electronically to fr0087@ustr.gov, with “Gambling and Betting Dispute (DS285)” in the subject line. For documents sent by fax, USTR requests that the submitter provide a confirmation copy to the electronic mail address listed above.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitting person believes that information or advice may qualify as such, the submitting person—

(1) Must so designate the information or advice;

(2) Must clearly mark the material as “SUBMITTED IN CONFIDENCE” at the top and bottom of each page of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS-285, Gambling and Betting Dispute) may be made by calling the USTR Reading Room at (202) 395-6186. The USTR Reading Room is open to the public from 9:30 a.m. to 12 noon and 1 p.m. to 4 p.m., Monday through Friday.

Daniel E. Brinza,
Assistant United States Trade Representative for Monitoring and Enforcement.

[FR Doc. 03-19555 Filed 7-31-03; 8:45 am]

BILLING CODE 3190-01-M